DEPARTMENT OF LABOR

Employment and Training Administration

Proposed Information Collection Request of the ETA 207, Nonmonetary Determination Activities Report; Comment Request

AGENCY: Employment and Training Administration, DOL.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm.

DATES: Written comments must be submitted to the office listed in the addressee section below on or before October 12, 2007.

ADDRESSES: Send comments to Ericka Parker, U.S. Department of Labor, Employment and Training Administration, Office of Workforce Security, 200 Constitution Avenue, NW., Frances Perkins Bldg. Room S-4531, Washington, DC 20210, telephone number (202)-693-3208 (this is not a toll-free number) or by e-mail: parker.ericka@dol.gov.

SUPPLEMENTARY INFORMATION:

I. Background

The ETA 207 Report, Nonmonetary Determination Activities, contains state data on the number and types of issues that are adjudicated when unemployment insurance (UI) claims are filed. It also has data on the number of disqualifications that are issued for reasons associated with a claimant's separation from employment and reasons related to a claimant's continuing eligibility for benefits. These data are used by the Office of Workforce Security (OWS) to determine workload counts for allocation of administrative funds, to analyze the ratio of disqualifications to determinations, and to examine and evaluate the program effect of nonmonetary activities.

II. Desired Focus of Comments

Currently, the Employment and Training Administration is soliciting comments concerning the proposed extension collection of the ETA 207, Nonmonetary Determinations Activities Report. Comments are requested to:

• Evaluate whether the proposed collection of information is necessary to assess performance of the nonmonetary determination function, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Actions

The continued collection of the information contained on the ETA 207 report is necessary to enable the OWS to continue evaluating state performance in the nonmonetary determination area and to continue using the data as a key input to the administrative funding process.

Type of Review: Extension without change.

Agency: Employment and Training Administration (ETA).

Title: Nonmonetary Determination Activities Report.

OMB Number: 1205-0150.

Agency Number: ETA 207.

Affected Public: State and Local Governments.

Total Respondents: 53.

Frequency: Quarterly.

Total Responses: 224 (212 responses for ETA 207 Regular report and estimated 12 responses for ETA 207 Extended Benefits report).

Average Time Per Response: 4 hours.

Estimated Total Burden Hours: 896 hours (848 hours for the ETA 207 Regular report + estimated 48 hours for ETA 207 (Extended Benefits).

Total Burden Cost (capital/startup): $0.

Total Burden Cost (operating/maintaining): $0.

Comments submitted in response to this notice will be summarized and/or included in the request for Office of Management and Budget approval of the information collection request; they will also become a matter of public record.

Dated: August 3, 2007.
Cheryl Atkinson,
Administrator, Office of Workforce Security.

[FR Doc. E7-15731 Filed 8-10-07; 8:45 am]

BILLING CODE 4510-FW-P